DEPARTMENT OF TRANSPORTATION

Federal Aviation Administration

14 CFR Part 39

[Docket No. 99-NE-51-AD]

RIN 2120-AA64

Airworthiness Directives; Honeywell International, Inc. (formerly AlliedSignal Inc., and Textron Lycoming) ALF502 and LF507 Series Turbofan Engines

AGENCY: Federal Aviation Administration, DOT.

ACTION: Notice of proposed rulemaking (NPRM).

SUMMARY: This document proposes to adopt a new airworthiness directive (AD) that is applicable to Honeywell International, Inc. (formerly AlliedSignal Inc. and Textron Lycoming) ALF502 and LF507 series turbofan engines. This proposal would require removing from service certain gas producer turbine (GPT) components prior to reaching new, lower cyclic life limits using drawdown plans, and replacing with serviceable parts. This proposal is prompted by continuous analysis of field-returned hardware indicating smaller service life margins than originally expected. The actions specified by the proposed AD are intended to prevent GPT component failure, which could result in an uncontained engine failure and damage to the airplane.

DATES: Comments must be received by October 22, 2001.

ADDRESSES: Submit comments to the Federal Aviation Administration (FAA), New England Region, Office of the Regional Counsel, Attention: Rules Docket No. 99-NE-51-AD, 12 New England Executive Park, Burlington, MA 01803-5299. Comments may also be sent via the Internet using the following address: “9-ane-adcomment@faa.gov”. Comments sent via the Internet must contain the docket number in the subject line. Comments may be inspected at this location between 8:00 a.m. and 4:30 p.m., Monday through Friday, except Federal holidays.

FOR FURTHER INFORMATION CONTACT: Robert Baitoo, Aerospace Engineer, Los Angeles Aircraft Certification Office, FAA, Transport Airplane Directorate, 3960 Paramount Blvd., Lakewood, CA 90712; telephone (562) 627-5245; fax (562) 627-5210.

SUPPLEMENTARY INFORMATION:

Comments Invited

Interested persons are invited to participate in the making of the proposed rule by submitting such written data, views, or arguments as they may desire. Communications should identify the Rules Docket number and be submitted to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 99-NE-51-AD.” The postcard will be date stamped and returned to the commenter.

Availability of NPRM's

Any person may obtain a copy of this NPRM by submitting a request to the FAA, New England Region, Office of the Regional Counsel, Attention: Rules Docket No. 99-NE-51-AD, 12 New England Executive Park, Burlington, MA 01803-5299.

Discussion

Honeywell International, Inc. (formerly AlliedSignal Inc.), the manufacturer of LF507 series turbofan engines and current type certificate holder of ALF502 series turbofan engines, has advised the FAA that continuous analysis of field-returned hardware indicates smaller service life margins than originally intended for certain first turbine rotor sealing plates, first turbine rotor discs, and turbine spacers. This analysis is supported by component tests. To date there has been no in-service failure of these components. This condition, if not corrected, could result in GPT component failure, which could result in an uncontained engine failure and damage to the airplane.

Proposed Actions

Since an unsafe condition has been identified that is likely to exist or develop on other products of this same type design, the proposed AD would require removing from service the first turbine rotor sealing plate, first turbine rotor disc, and turbine spacer prior to reaching new, lower cyclic life limits using drawdown plans, and replacing with serviceable parts. The actions would be required to be accomplished in accordance with the SB described previously.

Economic Analysis

There are approximately 1,600 engines of the affected design in the worldwide fleet. The FAA estimates that 300 engines installed on airplanes of U.S. registry would be affected by this proposed AD, and that the prorated cost of the life reduction per engine would be approximately $7,980. Based on these figures, the total cost impact of the proposed AD on U.S. operators is estimated to be $2,394,000.

Regulatory Impact

This proposal does not have federalism implications, as defined in Executive Order 13132, because it would not have a substantial direct effect on the States, on the relationship between the national government and the States, or on the distribution of power and responsibilities among the various levels of government. Accordingly, the FAA has not consulted with state authorities prior to publication of this proposal.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Honeywell International, Inc. (formerly AlliedSignal Inc., and Textron Lycoming): Docket No. 99-NE-51-AD.

Applicability: This airworthiness directive (AD) is applicable to Honeywell International, Inc. (formerly AlliedSignal Inc. and Textron Lycoming) ALF502 and LF507 series turbofan engines, with certain first turbine rotor sealing plates, first turbine rotor discs, and turbine spacers installed. These engines are installed on, but not limited to, Bombardier (Canadair) CL600-1A11, and British Aerospace BAe 146 series and AVRO 146-RJ series airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance

Compliance with this AD is required as indicated, unless already done.

To prevent gas producer turbine (GPT) component failure, which could result in an uncontained engine failure and damage to the airplane, do the following:

Drawdown Schedule for First Turbine Rotor Sealing Plate

(a) Remove from service first turbine rotor sealing plate according to the drawdown plan described in the following Table 1 of this AD, and replace with serviceable parts:

Table 1.—First Turbine Rotor Sealing Plate P/N 2-121-075-15, -21, -27, -28, and -36
Engine model | Cycles-in-service since new (CSN) on the effective date of this AD | Replace
(1) ALF502R, LF507-1F, and LF507-1H series | (i) Fewer than 15,000 CSN | Before accumulating 20,000 CSN.
| (ii) 15,000 or more CSN | Within 5,000 cycles-in-service (CIS) after the effective date of this AD or at the next access after the effective date of this AD, whichever is earlier, but do not exceed 25,000 CSN.
(2) All ALF502L series | (i) Fewer than 17,500 CSN | Before accumulating 18,000 CSN.
| (ii) 17,500 or more CSN | Within 500 CIS after the effective date of this AD or at the next access after the effective date of this AD, whichever is earlier, but do not exceed 23,000 CSN.

Drawdown Schedule for First Turbine Rotor Disc

(b) Remove from service first turbine rotor disc according to the drawdown plan described in the following Table 2 of this AD, and replace with serviceable parts:

Table 2.—First Turbine Rotor Disc P/N 2-121-051-18, -24, -25, -R35, -36, -37, -44, -R52, and -R55
Engine model | Cycles-in-service since new (CSN) on the effective date of this AD | Replace
(1) ALF502R, LF507-1F, and LF507-1H series | (i) Fewer than 15,000 CSN | Before accumulating 20,000 CSN.
| (ii) 15,000 or more CSN | Within 5,000 CIS after the effective date of this AD or at the next access after the effective date of this AD, whichever is earlier, but do not exceed 25,000 CSN.
(2) All ALF502L series | (i) Fewer than 13,500 CSN | Before accumulating 14,000 CSN.
| (ii) 13,500 or more CSN | Within 500 CIS after the effective date of this AD or at the next access after the effective date of this AD, whichever is earlier, but do not exceed 21,000 CSN.

Drawdown Schedule for Turbine Spacer

(c) Remove from service turbine spacers according to the drawdown plan described in the following Table 3 of this AD, and replace with serviceable parts:

Table 3.—Turbine Spacer P/N 2-121-071-36, -37, and -42
Engine model | First turbine rotor assembly P/N | Cycles-in-service since new (CSN) on the effective date of this AD | Replace
(1) ALF502R series, (except ALF502R-3) LF507-1F, and LF507-1H series | P/N 2-121-090-63, -64, -65, -R66, or -R67 | (i) Fewer than 10,000 CSN | Before accumulating 15,000 CSN.
|  | (ii) 10,000 or more CSN | Within 5,000 CIS after the effective date of this AD or at the next access after the effective date of this AD, whichever is earlier, but do not exceed 20,000 CSN.
(2) ALF502R series with turbine spacer P/N 2-121-071-36, -37 installed | P/N 2-121-090-41 or -42 or if rotor assembly P/N cannot be determined |  | Before accumulating 12,000 CSN.
(3) ALF502R-3 with turbine spacer P/N 2-121-071-36 installed | P/N 2-121-090-63, -64, -65, -R66, or -R67 | (i) Fewer than 10,000 CSN | Before accumulating 15,000 CSN.
|  | (ii) 10,000 or more CSN | Within 5,000 CIS after the effective date of this AD or at the next access after the effective date of this AD, whichever is earlier, but do not exceed 20,000 CSN.
(4) All ALF502L series | P/N 2-121-090-63, -64, -65, -R66, -R67, -91, -R92 | (i) Fewer than 13,500 CSN | Before accumulating 14,000 CSN.
|  | (ii) 13,500 or more CSN | Within 500 CIS after the effective date of this AD or at the next access after the effective date of this AD, whichever is earlier, but do not exceed 19,500 CSN.
(5) All ALF502L series | P/N 2-121-090-41, -42 or if rotor assembly P/N cannot be determined |  | Before accumulating 10,800 CSN.

Reduced Life Limits

(d) Except for the drawdown provisions of paragraphs (a), (b), and (c) of this AD and the approvals granted under the provisions of paragraph (f) of this AD, no first turbine rotor sealing plates, first turbine rotor discs, or turbine spacers may remain in service beyond the cyclic life limits provided in paragraph (a), (b), or (c) of this AD.

Definitions

(e) For the purposes of this AD, access is defined as when the engine has been disassembled to where the affected part may be removed.

Alternative Methods of Compliance

(f) An alternative method of compliance or adjustment of the compliance time that provides an acceptable level of safety may be used if approved by the Manager, Los Angeles Aircraft Certification Office (LAACO). Operators must submit their request through an appropriate FAA Principal Maintenance Inspector, who may add comments and then send it to the Manager, LAACO.

Note 2: Information concerning the existence of approved alternative methods of compliance with this airworthiness directive, if any, may be obtained from the LAACO.

Special Flight Permits

(g) Special flight permits may be issued in accordance with §§ 21.197 and 21.199 of the Federal Aviation Regulations (14 CFR 21.197 and 21.199) to operate the airplane to a location where the requirements of this AD can be accomplished.

Issued in Burlington, Massachusetts, on August 16, 2001.
Jay J. Pardee,
Manager, Engine and Propeller Directorate, Aircraft Certification Service.

[FR Doc. 01-21222 Filed 8-22-01; 8:45 am]

BILLING CODE 4910-13-P